ENVIRONMENTAL PROTECTION AGENCY

40 CFR Parts 52 and 81

[EPA-R10-OAR-2007-0915; FRL-8747-8]

Approval and Promulgation of State Implementation Plans: Oregon; Salem Carbon Monoxide Nonattainment Area; Designation of Areas for Air Quality Planning Purposes

AGENCY: Environmental Protection Agency (EPA).

ACTION: Proposed rule.

SUMMARY: EPA is proposing to approve a State Implementation Plan (SIP) revision submitted by the State of Oregon for the Salem carbon monoxide (CO) nonattainment area. On August 9, 2007, the State of Oregon submitted a request to EPA that the Salem nonattainment area be redesignated to attainment for the CO National Ambient Air Quality Standard (NAAQS) and concurrently submitted a maintenance plan to provide for continued attainment of the CO NAAQS. The Salem CO nonattainment area has not violated the 8-hour CO NAAQS since 1985. In accordance with the requirements of the Federal Clean Air Act (the Act), EPA is proposing to approve Oregon's redesignation request and SIP revision because the State adequately demonstrates that requirements for redesignation are met and that the Salem area will maintain air quality standards for CO.

DATES: Comments must be received on or before January 29, 2009.

ADDRESSES: Submit your comments, identified by Docket ID No. EPA-R10-OAR-2007-0915, by any of the following methods:

• http://www.regulations.gov: Follow the on-line instructions for submitting comments.

• E-mail: vaupel.claudia@epa.gov.

• Mail: Claudia Vergnani Vaupel, U.S. EPA Region 10, Office of Air, Waste and Toxics (AWT-107), 1200 Sixth Avenue, Suite 900, Seattle, WA 98101.

• Hand Delivery/Courier: U.S. EPA Region 10, 1200 Sixth Avenue, Suite 900, Seattle, WA 98101. Attention: Claudia Vergnani Vaupel, Office of Air, Waste and Toxics, AWT-107. Such deliveries are only accepted during normal hours of operation, and special arrangements should be made for deliveries of boxed information.

Please see the direct final rule which is located in the Rules section of this Federal Register for detailed instructions on how to submit comments.

FOR FURTHER INFORMATION CONTACT: Claudia Vergnani Vaupel at telephone number: (206) 553-6121, e-mail address: vaupel.claudia@epa.gov, or the above EPA, Region 10 address.

SUPPLEMENTARY INFORMATION: For further information, please see the direct final action, of the same title, which is located in the Rules section of this Federal Register. EPA is approving the State's SIP revision as a direct final rule without prior proposal because EPA views this as a noncontroversial SIP revision and anticipates no adverse comments. A detailed rationale for the approval is set forth in the preamble to the direct final rule. If EPA receives no adverse comments, EPA will not take further action on this proposed rule.

If EPA receives adverse comments, EPA will withdraw the direct final rule and it will not take effect. EPA will address all public comments in a subsequent final rule based on this proposed rule. EPA will not institute a second comment period on this action. Any parties interested in commenting on this action should do so at this time. Please note that if we receive adverse comment on an amendment, paragraph, or section of this rule and if that provision may be severed from the remainder of the rule, EPA may adopt as final those provisions of the rule that are not the subject of an adverse comment.

Dated: November 21, 2008.
Elin D. Miller,
Regional Administrator, Region 10.

[FR Doc. E8-30822 Filed 12-29-08; 8:45 am]

BILLING CODE 6560-50-P